DEPARTMENT OF STATE

[Public Notice: 11345]

Cultural Property Advisory Committee; Notice of Meeting

AGENCY: Department of State.

ACTION: Notice of meeting.

SUMMARY: We are issuing this notice to announce the location, date, time, and agenda for the next meeting of the Cultural Property Advisory Committee.

DATES: The Cultural Property Advisory Committee (“the Committee”) will meet March 17 and 19, 2021, from 10:00 a.m. to 5:00 p.m. (EDT) via videoconference. The Committee will hold an open session on March 17, 2021, at 2:00 p.m. (EDT). It will last approximately one hour.

Participation: You may participate in the open session by videoconference. To participate, visit http://culturalheritage.state.gov for information on how to access the meeting. Please submit any request for reasonable accommodation not later than March 10, 2021, by contacting the Bureau of Educational and Cultural Affairs at culprop@state.gov. It may not be possible to accommodate requests made after that date.

Comments: The Committee will review your written comment if it is received by March 3, 2021, at 11:59 p.m. (EDT). You are not required to submit a written comment in order to make an oral comment in the open session.

ADDRESSES: The meeting will be held by videoconference.

Written Comments: You may submit written comments in two ways, depending on whether they contain privileged or confidential information:

Electronic Comments: For ordinary comments, please use http://www.regulations.gov, enter the docket [DOS-2021-0003], and follow the prompts to submit your comments.

Email Comments: For comments that contain privileged or confidential information (within the meaning of 19 U.S.C. 2605(i)(1)), please email submissions to culprop@state.gov. Include “Albania” and/or “Egypt” in the subject line, as appropriate.

FOR FURTHER INFORMATION CONTACT: For general questions concerning the meeting, contact Allison Davis or Andrew Cohen, Bureau of Educational and Cultural Affairs—Cultural Heritage Center, by phone (202-632-6305) or email (culprop@state.gov).

SUPPLEMENTARY INFORMATION: In accordance with the Convention on Cultural Property Implementation Act (19 U.S.C. 2601 et seq.) (“the Act”), the Assistant Secretary of State for Educational and Cultural Affairs calls a meeting of the Cultural Property Advisory Committee (”the Committee”) (19 U.S.C. 2605(e)(2)). The Act describes the Committee's responsibilities. A portion of this meeting will be closed to the public pursuant to 5 U.S.C. 552b(c)(9)(B) and 19 U.S.C. 2605(h).

Meeting Agenda: The Committee will review the request by the Government of the Republic of Albania seeking import restrictions on archaeological and ethnological material. The Committee will also review the proposed extension and amendment of the cultural property agreement with the Government of the Arab Republic of Egypt. In addition, the Committee will undertake a continuing review of the effectiveness of other cultural property agreements and emergency actions currently in force.

Open Session Participation: The Committee will hold an open session of the meeting to receive oral public comments on Albania's request for an agreement and the proposed extension and amendment of the agreement with Egypt on Wednesday, March 17, 2021, from 2:00 p.m. to approximately 3:00 p.m. (EDT). We have provided specific instructions on how to participate or observe the open session at http://culturalheritage.state.gov.

You do not need to register to observe the open session. You do not have to submit written comments to make an oral comment in the open session. If you do wish to speak, however, you must request to be scheduled by March 10, 2021, via email (culprop@state.gov). Please include your name and any organizational affiliation in this request. The open session will start with a brief presentation by the Committee, after which you should be prepared to answer questions on any written statements you may have submitted. Finally, you may be invited to provide additional oral comments for a maximum of five (5) minutes per participant, time permitting. Due to time constraints, it may not be possible to accommodate all who wish to speak.

Written Comments: If you do not wish to participate in the open session but still wish to make your views known, you may submit written comments for the Committee's consideration. Submit non-privileged and non-confidential information (within the meaning of 19 U.S.C. 2605(i)(1)) regarding the new request from Albania and/or the proposed extension of the agreement with Egypt using the regulations.gov website (listed in the “COMMENTS” section above) not later than March 3, 2021, at 11:59 p.m. (EDT). For comments that contain privileged or confidential information (within the meaning of 19 U.S.C. 2605(i)(1)), please send comments to culprop@state.gov. Include “Albania” and/or “Egypt” in the subject line. In all cases, your written comments should relate specifically to the determinations specified in the Act at 19 U.S.C. 2602(a)(1). Written comments submitted via regulations.gov are not private and are posted at http://www.regulations.gov. Because written comments cannot be edited to remove any personally identifying or contact information, we caution against including any such information in an electronic submission without appropriate permission to disclose that information (including trade secrets and commercial or financial information that are privileged or confidential within the meaning of 19 U.S.C. 2605(i)(1)). We request that any party soliciting or aggregating written comments from other persons inform those persons that the Department will not edit their comments to remove any identifying or contact information and that they therefore should not include any such information in their comments that they do not want publicly disclosed.

Allison R. Davis,
Executive Director CPAC, Bureau of Educational and Cultural Affairs, Department of State.

[FR Doc. 2021-02371 Filed 2-4-21; 8:45 am]

BILLING CODE 4710-05-P